DEPARTMENT OF COMMERCE

National Oceanic and Atmospheric Administration

50 CFR Part 679

[Docket No. 041126332-4332-01; I.D. 112204A]

Fisheries of the Exclusive Economic Zone Off Alaska; Bering Sea and Aleutian Islands; 2005 and 2006 Proposed Harvest Specifications for Groundfish; Correction

AGENCY: National Marine Fisheries Service (NMFS), National Oceanic and Atmospheric Administration (NOAA), Commerce.

ACTION: Proposed rule; correction.

SUMMARY: This document corrects a proposed rule to implement 2005 and 2006 harvest specifications and prohibited species catch (PSC) allowances for the groundfish fishery of the Bering Sea and Aleutian Islands management area (BSAI). This document corrects errors in Table 8 to the proposed specifications.

DATES: Comments must be received by January 7, 2005.

ADDRESSES: Send comments to Sue Salveson, Assistant Regional Administrator, Sustainable Fisheries Division, Alaska Region, NMFS, Attn: Lori Durall. Comments may be submitted by:

• Mail to P.O. Box 21668, Juneau, AK 99802;

• Hand Delivery to the Federal Building, 709 West 9th Street, Room 420A, Juneau, AK;

• E-mail to 2005AKgroundfish.tacspecs@noaa.gov and include in the subject line of the e-mail comments the document identifier: 2005 Proposed Specifications. E-mail comments, with or without attachments, are limited to 5 megabytes;

• FAX to 907-586-7557; or

• Webform at the Federal eRulemaking Portal: www.regulations.gov. Follow the instructions at that site for submitting comments.

Copies of the draft Environmental Assessment/Initial Regulatory Flexibility Analysis (EA/IRFA) prepared for this action are available from NMFS at the addresses above or from the Alaska Region website at www.fakr.noaa.gov. Copies of the final 2003 Stock Assessment and Fishery Evaluation (SAFE) report for the groundfish resources of the BSAI, dated November 2003, are available from the North Pacific Fishery Management Council (Council), West 4th Avenue, Suite 306, Anchorage, AK 99510-2252 (907-271-2809), or from its website at www.fakr.noaa.gov/npfmc.

FOR FURTHER INFORMATION CONTACT: Mary Furuness, 907-586-7228, or e-mail at mary.furuness@noaa.gov.

SUPPLEMENTARY INFORMATION: NMFS proposed 2005 and 2006 harvest specifications and PSC allowances for the groundfish fishery of the BSAI on December 8, 2004 (69 FR 70974). That rule lists proposed pollock allocations to the seven inshore catcher vessel pollock cooperatives. Allocations in the proposed rule reflect cooperative applications for 2005 that are due to NMFS by December 1 of each year. All of the changes based on these applications were not reflected in the proposed Table 8. This document corrects the proposed rule by reflecting accurately all of the applications received for the 2005 year.

Correction

As published, proposed rule FR Doc. 04-26952, December 8, 2004 (69 FR 70974) contains an error and needs to be corrected. The corrected table adds member vessel PACIFIC CHALLENGER to the Peter Pad Fleet Cooperative and corrects data in columns 2, 3, 4, and 5 for the Westward Fleet Cooperative. The corrected table reads as follows:

TABLE 8 (corrected)—2005 AND 2006 PROPOSED BERING SEA SUBAREA INSHORE COOPERATIVE ALLOCATIONS
[Amounts are in metric tons]
Cooperative name and member vessels | Sum of member vessel's official catch histories¹ (mt) | Percentage of inshore sector allocation | 2005 Annual co-op allocation (mt) | 2006 Annual co-op allocation (mt)
Akutan Catcher Vessel Association ALDEBARAN, ARCTIC EXPLORER, ARCTURUS, BLUE FOX, CAPE KIWANDA, COLUMBIA, DOMINATOR, EXODUS, FLYING CLOUD, GOLDEN DAWN, GOLDEN PISCES, HAZEL LORRAINE, INTREPID EXPLORER, LESLIE LEE, LISA MELINDA, MAJESTY, MARCY J, MARGARET LYN, MARK I, NORDIC EXPLORER, NORTHERN PATRIOT, NORTHWEST EXPLORER, PACIFIC RAM, PACIFIC VIKING, PEGASUS, PEGGY JO, PERSEVERANCE, PREDATOR, RAVEN, ROYAL AMERICAN, SEEKER, SOVEREIGNTY, TRAVELER, VIKING EXPLORER | 245,922 | 28.130% | 180,110 | 180,055
Arctic Enterprise Association BRISTOL EXPLORER, OCEAN EXPLORER, PACIFIC EXPLORER | 36,807 | 4.210% | 26,957 | 26,948
Northern Victor Fleet Cooperative ANITA J, COLLIER BROTHERS, COMMODORE, EXCALIBUR II, GOLDRUSH, HALF MOON BAY, MISS BERDIE, NORDIC FURY, PACIFIC FURY, POSEIDON, ROYAL ATLANTIC, SUNSET BAY, STORM PETREL | 73,656 | 8.425% | 53,945 | 53,929
Peter Pan Fleet Cooperative AJ, AMBER DAWN, AMERICAN BEAUTY, ELIZABETH F, MORNING STAR, OCEAN LEADER, OCEANIC, PACIFIC CHALLENGER, PROVIDIAN, TOPAZ, WALTER N | 23,850 | 2.728% | 17,467 | 17,462
Unalaska Cooperative ALASKA ROSE, BERING ROSE, DESTINATION, GREAT PACIFIC, MESSIAH, MORNING STAR, MS AMY, PROGRESS, SEA WOLF, VANGUARD, WESTERN DAWN | 106,737 | 12.209% | 78,173 | 78,149
UniSea Fleet Cooperative ALSEA, AMERICAN EAGLE, ARGOSY, AURIGA, AURORA, DEFENDER, GUN-MAR, MAR-GUN, NORDIC STAR, PACIFIC MONARCH, SEADAWN, STARFISH, STARLITE, STARWARD | 213,521 | 24.424% | 156,380 | 156,333
Westward Fleet Cooperative ALASKAN COMMAND, ALYESKA, ARCTIC WIND, CAITLIN ANN, CHELSEA K, DONA MARTITA, FIERCE ALLEGIANCE, HICKORY WIND, OCEAN HOPE 3, PACIFIC KNIGHT, PACIFIC PRINCE, VIKING, WESTWARD I | 173,744 | 19.874% | 127,248 | 127,209
Open access AFA vessels | 0 | 0% | 0 | 0
Total inshore allocation | 874,238 | 100% | 640,280 | 640,085
¹According to regulations at § 679.62(e)(1), the individual catch history for each vessel is equal to the vessel's best 2 of 3 years inshore pollock landings from 1995 through 1997 and includes landings to catcher/processors for vessels that made 500 or more mt of landings to catcher/processors from 1995 through 1997.

All other information previously published remains the same.

Authority: 16 U.S.C. 1801 et seq.

Dated: December 16, 2004.
William T. Hogarth,
Assistant Administrator for Fisheries, National Marine Fisheries Service.

[FR Doc. 04-27979 Filed 12-21-04; 8:45 am]

BILLING CODE 3510-22-S